DEPARTMENT OF EDUCATION

Open Meeting of the National Advisory Council on Indian Education

AGENCY: National Advisory Council on Indian Education (NACIE), DOE.

ACTION: Notice of teleconference meeting.

SUMMARY: This notice sets forth the schedule and proposed agenda of an upcoming open teleconference meeting of the National Advisory Council on Indian Education (the Council) and is intended to notify the general public of their opportunity to listen as the Council conducts their meeting by teleconference. This notice also describes the functions of the Council. Notice of the Council's meetings is required under section 10(a)(2) of the Federal Advisory Committee Act and by the Council's charter.

Agenda: The purpose of the meeting will be to discuss the status of NACIE vacancies, update on the Designated Federal Officer position, receive updates on FY06 budget, and the development of the February agenda to include other Federal agencies identified in the Executive Order 13336, American Indian and Alaska Native Education. The Council will review and update the NACIE activity plan.

Date and Time: January 20, 2006; 2 to 4 p.m.

Location: The Department of Education, Room 1W103, 400 Maryland Avenue, SW., Washington, DC 20202. Note: Attendees will be required to show picture identification to enter the building.

FOR FURTHER INFORMATION CONTACT: Bernard Garcia, Group Leader, Office of Indian Education, U.S. Department of Education, 400 Maryland Avenue, SW., Washington, DC 20202. Telephone: 202-260-1454. Fax: 202-260-7779.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the ESEA. The Council submitted to the Congress June 30 a report on the activities of the Council that included recommendations the Council considers appropriate for the improvement of Federal education programs that include Indian children or adults as participants or that may benefit Indian children or adults, and recommendations concerning the funding of any such program.

The general public is welcome to listen to the January 20, 2006 open meeting to be held from 2 to 4 p.m. in Washington, DC. Individuals who need accommodations for a disability in order to participate (i.e., interpreting services, assistive listening devices, materials in alternative format) should notify Bernard Garcia at 202-260-1454 by January 15, 2006. We will attempt to meet requests after this date, but cannot guarantee availability of the requested accommodation. The meeting site is accessible to individuals with disabilities. Records are kept of all Council proceedings and are available for public inspection at the Office of Indian Education, United States Department of Education, Room 5C141, 400 Maryland Avenue, SW., Washington, DC 20202.

Henry L. Johnson,
Assistant Secretary for Elementary and Secondary Education.

[FR Doc. 05-24670 Filed 12-30-05; 8:45 am]

BILLING CODE 4000-01-M